DEPARTMENT OF ENERGY

Federal Energy Regulatory Commission

[Project No. 1881-066]

PPL Holtwood, LLC; Notice of Applications for Amendment of License and Soliciting Comments, Motions To Intervene, and Protests

Take notice that the following hydroelectric applications have been filed with the Commission and is available for public inspection:

a. Application Type: Amendment of license to change project boundary.

b. Project No.: 1881-066.

c. Date Filed: March 15, 2012 and March 19, 2012.

d. Applicant: PPL Holtwood, LLC.

e. Name of Project: Holtwood Hydroelectric Project.

f. Location: The project is located on the Susquehanna River, in Lancaster and York Counties, Pennsylvania.

g. Filed Pursuant to: Federal Power Act, 16 U.S.C. 791(a)—825(r).

h. Applicant Contact: Dennis J. Murphy, Vice President & Chief Operating Officer, PPL Holtwood, LLC, Two North Ninth Street, Allentown, Pennsylvania 18101; telephone (610) 774-4316.

i. FERC Contact: Hillary Berlin: (202) 502-8915; Hillary.Berlin@ferc.gov.

j. Deadline for filing comments, motions to intervene, and protests: April 30, 2012.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Secretary, Federal Energy Regulatory Commission, 888 First Street NE., Washington, DC 20426. Please include the project number (P-1881-066) on any comments, motions, or recommendations filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Applications: The licensee is requesting approval of the following changes to the project boundary in the March 15 application: (1) Removal of 1.22 acres of land to convey to a private individual in exchange for 0.5 acres adjacent to the Pequea Creek boat launch that would be added to the project boundary and used to provide additional parking for the boat launch; (2) removal of a 33.8-acre parcel on which the Indian Steps Museum and Ulmer-Root-Haines Memorial Park and nature trail are located and convey land to the Conservation Society of York County, who currently owns the museum building; and (3) the addition of approximately 61 acres of land owned by the licensee to be used for the new powerhouse and other project purposes associated with the capacity-related amendment approved on October 30, 2009. In the March 19, 2012 application, PPL Holtwood, LLC requests removal of 11 parcels totaling approximately 1,260 acres of land from the project boundary in order to convey that land to the Lancaster County Conservancy for long-term preservation and public use in accordance with the Pennsylvania Department of Natural Resources Lower Susquehanna Conservation Landscape Initiative.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) Bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: March 29, 2012.
Kimberly D. Bose,
Secretary.

[FR Doc. 2012-8159 Filed 4-4-12; 8:45 am]

BILLING CODE 6717-01-P